DEPARTMENT OF COMMERCE

International Trade Administration

[A-580-812]

Dynamic Random Access Memory Semiconductors of One Megabit or Above (DRAMs) From the Republic of Korea: Extension of Time Limit for Final Results of Antidumping Duty Administrative Review

AGENCY: Import Administration, International Trade Administration, Department of Commerce.

EFFECTIVE DATE: August 10, 2000.

FOR FURTHER INFORMATION CONTACT: John Conniff at (202) 482-1009, Office of AD/CVD Enforcement, Group II, Office 4, Import Administration, International Trade Administration, U.S. Department of Commerce, 14th Street and Constitution Ave, NW, Washington, DC 20230.

Information:

Statutory Time Limits

Section 751(a)(3)(A) of the Tariff Act of 1930, as amended (the Act), requires the Department of Commerce (the Department) to make a preliminary determination within 245 days after the last day of the anniversary month of an order/finding for which a review is requested and a final determination within 120 days after the date on which the preliminary determination is published. However, if it is not practicable to complete the review within the time period, section 751(a)(3)(A) of the Act allows the Department to extend the time limit for the preliminary determination to a maximum of 365 days and for the final determination to 180 days (or 300 days if the Department does not extend the time limit for the preliminary determination) from the date of publication of the preliminary determination.

Background

On June 30, 1999, the Department published a notice of initiation of administrative review of the antidumping duty order on DRAMs from the Republic of Korea, covering the period May 1, 1998 through April 30, 1999, (64 FR 35124). On June 6, 2000, (65 FR 35886), we published the preliminary results of review. In our notice of preliminary results, we stated our intention to issue the final results of this review no later than October 4, 2000.

Extension of Final Results of Review

We determine that it is not practicable to complete the final results of this review within the original time limit. Therefore we are extending the time limits for completion of the final results until no later than November 3, 2000. See Decision Memorandum from Thomas F. Futtner to Holly A. Kuga, dated concurrently with this notice, which is on file in the Central Records Unit, Room B-099 of the main Commerce Building.

This extension is in accordance with section 751(a)(3)(A) of the Act.

Dated: July 28, 2000.
Holly A. Kuga,
Acting Deputy Assistant Secretary for Import Administration.

[FR Doc. 00-20192 Filed 8-9-00; 8:45 am]

BILLING CODE 3510-DS-P